ENVIRONMENTAL PROTECTION AGENCY

[EPA-HQ-OAR-2010-0485; FRL 9166-6]

Access by EPA Contractors To Information Claimed as Confidential Business Information (CBI) Submitted Under Title II of the Clean Air Act and Related to the Renewable Fuel Standard (RFS2) and the EPA Moderated Transaction System (EMTS)

AGENCY: Environmental Protection Agency (EPA).

ACTION: Notice.

SUMMARY: EPA's Office of Transportation and Air Quality (OTAQ) plans to authorize various contractors to access information which will be submitted to EPA under Title II of the Clean Air Act that may be claimed as, or may be determined to be, confidential business information (CBI). Contractor access to this information, which is related to the Renewable Fuel Standard (RFS2) and its EPA Moderated Transaction System (EMTS), will begin on July 1, 2010.

DATES: EPA will accept comments on this Notice through June 28, 2010.

FOR FURTHER INFORMATION CONTACT: Anne-Marie C. Pastorkovich, Environmental Protection Agency, 1200 Pennsylvania Avenue, NW. (6406J), Washington, DC 20460; telephone number: 202-343-9623; fax number: 202-343-2801; e-mail address: pastorkovich.anne-marie@epa.gov.

SUPPLEMENTARY INFORMATION:

I. Does this Notice Apply to Me?

This action is directed to the general public. However, this action may be of particular interest to parties who are required to use the EPA Moderated Transaction System (EMTS), as described in 40 CFR 80.1452(e), to manage and convey renewable identification numbers (RINs). EMTS is utilized by parties subject to registration and reporting under the Renewable Fuel Standard (RFS2) program of 40 CFR part 80, subpart M.¹

¹ See “Regulation of Fuel and Fuel Additives: Changes to Renewable Fuel Standard Program—Final Rule,” 75 FR 14670 (March 26, 2010) and “Regulation of Fuel and Fuel Additives: Modifications to Renewable Fuel Standard Program—Final Rule and Proposed Rule,” 75 FR 26026 (May 10, 2010).

This Federal Register notice may be of particular relevance to parties that have submitted data under the above-listed programs or systems. Since other parties may also be interested, the Agency has not attempted to describe all the specific parties that may be affected by this action. If you have further questions regarding the applicability of this action to a particular party, please contact the person listed in FOR FURTHER INFORMATION CONTACT.

II. How Can I Get Copies of this Document and Other Related Information?

A. Electronically

EPA has established a public docket for this Federal Register notice under Docket EPA-HQ-OAR-2010-0485.

All documents in the docket are identified in the docket index available at http://www.regulations.gov. Although listed in the index, some information is not publicly available, such as confidential business information (CBI) or other information for which disclosure is restricted by statute. Certain materials, such as copyrighted material, will only be available in hard copy at the EPA Docket Center.

B. EPA Docket Center

Materials listed under Docket EPA-HQ-OAR-2010-0485 will be available for public viewing at the EPA Docket Center (EPA/DC), EPA West, Room 3334, 1301 Constitution Avenue, NW., Washington, DC 20460. The EPA Docket Center Public Reading Room is open from 8:30 a.m. to 4:30 p.m., Monday through Friday, excluding legal holidays. The telephone number for the Reading Room is (202) 566-1744, and the telephone number for the Air Docket is (202) 566-1742.

III. Description of Programs and Potential Disclosure of Information Claimed as Confidential Business Information (CBI) to Contractors

EPA's Office of Transportation and Air Quality (OTAQ) has responsibility for protecting public health and the environment by regulating air pollution from motor vehicles, engines, and the fuels used to operate them, and by encouraging travel choices that minimize emissions. In order to implement various Clean Air Act programs, and to permit regulated entities flexibility in meeting regulatory requirements (e.g., compliance on average), we collect compliance reports and other information from them. Occasionally, the information submitted is claimed to be confidential business information (CBI). Information submitted under such a claim is handled in accordance with EPA's regulations at 40 CFR part 2, subpart B and in accordance with EPA procedures, including comprehensive system security plans (SSPs) that are consistent with those regulations. When EPA has determined that disclosure of information claimed as CBI to contractors is necessary, the corresponding contract must address the appropriate use and handling of the information by the contractor and the contractor must require its personnel who require access to information claimed as CBI to sign written non-disclosure agreements before they are granted access to data.

In accordance with 40 CFR 2.301(h), we have determined that the contractors, subcontractors, and grantees (collectively referred to as “contractors”) listed below require access to CBI submitted to us under the Clean Air Act and in connection with the RFS2 program and EMTS. We are providing notice and an opportunity to comment. OTAQ collects this data in order to monitor compliance with the RFS2 program and to permit regulated parties flexibility in meeting regulatory requirements through the trading of RINs. We are issuing this Federal Register notice to inform all submitters of information within the EMTS system that we plan to grant access to material that may be claimed as CBI to the contractors identified below on a need-to-know basis.

Under Contract Number EP-W-09-22, PowerSolv, Incorporated, 1801 Robert Fulton Drive #550, Reston, Virginia, 20191 and its subcontractor, Indus Corporation, 1951 Kidwell Drive—8th Floor, Vienna, Virginia, 22182 provides technical support and information technology services that involve access to information claimed as CBI related to EMTS. Access to EMTS data, including information claimed as CBI, will commence on July 1, 2010 and will continue until May 31, 2011. If the contract is extended, this access will continue for the remainder of the contract without further notice.

Under Contract Number EP-06-095, Compass Solutions, Incorporated, 2760 Eisenhower Avenue, Suite 404, Alexandria, Virginia 22314 provides report processing and program support that involves access to information claimed as CBI related to EMTS. Access to EMTS data, including information claimed as CBI, will commence on July 1, 2010 and will continue until September 30, 2010. If the contract is extended, the access described in this paragraph will continue for the remainder of the contract and any further extensions without further notice.

Under Contract Number EP-W-09-021, Perrin Quarles Associates (PQA), Inc.,² 652 Peter Jefferson Parkway, Suite 300, Charlottesville, Virginia, 22911 provides technical and analytical support that involves access to information claimed as CBI related to EMTS. Access to data, including information claimed as CBI, will commence on July 1, 2010 and will continue until April 14, 2011. If the contract is extended, this access will continue for the remainder of the contract and any further extensions without further notice.

² On January 25, 2010, PQA announced that it had been acquired by SRA International (SRA) of Fairfax, Virginia.

Under Contract Number GS35F4797H, CGI, Incorporated, 12601 Fair Lakes Circle, Fairfax, Virginia, 22033 provides technical and information technology support related to submission of data via EPA's Central Data Exchange (CDX) and EMTS. Access to fuels data, including information claimed as CBI, will commence on July 1, 2010 and will continue until March 31, 2012. If the contract is extended, this access will continue for the remainder of the contract and any further extensions without further notice.

Under Contract Number EP10H000097, Computer Science Corporation (CSC), 15000 Conference Center Drive, Chantilly, Virginia 20151-3808, provides technical and information technology support that involves access to information claimed as CBI related to EMTS. Access to data, including information claimed as CBI, will commence on July 1, 2010 and will continue until September 30, 2010. If the contract is extended, this access will continue for the remainder of the contract and any further extensions without further notice.

Under Contract Number GS00T99ALD0203, Task Order EP09H002180, EXCEL Management Systems, Inc., 691 N High Street, Floor 2, Columbus, Ohio, 43215, provides technical and information technology support that involves access to information claimed as CBI related to EMTS. Access to data, including information claimed as CBI, will commence on July 1, 2010 and will continue until June 30, 2011. If the contract is extended, this access will continue for the remainder of the contract and any further extensions without further notice.

OTAQ utilizes the services of enrollees under the Senior Environmental Employment (SEE) program. Some SEE enrollees are provided through Grant Number CQ-83880-01, Senior Service America, Inc., (SSAI), 8403 Colesville Road, Suite 1200, Silver Spring, Maryland 20910-3314. SEE enrollees are also provided through Grant Number CQ-833436, the National Association for Hispanic Elderly (NAHE), 234 E. Colorado Blvd., Suite 300, Pasadena, California 91101. Access to data related to EMTS, including information claimed as CBI will commence on July 1, 2010 and will continue until August 31, 2011. If these grants are extended, this access will continue for the remainder of the grants and any future extensions without further notice.

Parties who wish further information about this Federal Register notice or about OTAQ's disclosure of information claimed as CBI to contactors may contact the person listed under FOR FURTHER INFORMATION CONTACT.

List of Subjects

Environmental protection; confidential business information.

Dated: June 4, 2010.
Karl J. Simon,
Director, Compliance and Innovative Strategies Division, Office of Transportation & Air Quality, Office of Air and Radiation.

[FR Doc. 2010-15032 Filed 6-21-10; 8:45 am]

BILLING CODE 6560-50-P